DEPARTMENT OF ENERGY

Federal Energy Regulatory Commission

[Docket No. CP24-8-000]

Natural Gas Pipeline Company of America LLC; Notice of Schedule for the Preparation of an Environmental Assessment for the Texas-Louisiana Expansion Project

On October 18, 2023, Natural Gas Pipeline Company of America LLC (Natural) filed an application in Docket No. CP24-8-000 requesting a Certificate of Public Convenience and Necessity pursuant to section 7(c) of the Natural Gas Act to construct and operate certain natural gas pipeline facilities. The proposed project is known as the Texas-Louisiana Expansion Project (Project) and would add an incremental 300,000 dekatherms per day (Dth/day) of firm gas capacity in Segment 25 of Natural's Louisiana Line 10. When combined with the unsubscribed capacity Natural has reserved for the Project, this would allow Natural to provide up to 467,000 Dth/day of firm transportation service to the Project shippers. Natural states the Project would not result in the termination or reduction in firm service to any of its existing customers.

On October 31, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA June 6, 2024

90-day Federal Authorization Decision Deadline ² September 4, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project would consist of the following facilities and activities:

Modifications and Installations at Compressor Station 302 (CS 302) in Montgomery County, Texas

• Uprate the horsepower (hp) of existing compressor controls to increase the horsepower of existing compressor Units 7 and 8 by 1,600 hp each, for a total of 3,200 hp;

• Re-wheel existing compressor Units 7, 8 and 9; and

• Install one new electric motor driven (EMD) compressor unit with a rating of 18,340 hp.

Modification at Compressor Station 343 (CS 343) in Liberty County, Texas

• Re-wheel existing EMD compressor Units 9 and 10.

In addition, Natural has identified in its application certain appurtenant facilities that it intends to construct/install under section 2.55(a) of the Commission's regulations.

Background

On November 30, 2023, the Commission issued a Notice of Scoping Period Requesting Comments on Environmental Issues for the Proposed Texas-Louisiana Expansion Project (Notice of Scoping). The Notice of Scoping was sent to affected landowners; federal, state, and local government agencies; elected officials; environmental and public interest groups; Native American tribes; other interested parties; and local libraries and newspapers. In response to the Notice of Scoping, the Commission received one comment from the U.S. Environmental Protection Agency. The primary issues raised by the commenter regarded air quality, water quality, Natural's National Pollutant Discharge Elimination System, and environmental justice. All substantive comments will be addressed in the EA.

No agencies requested to be cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-8), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 2, 2024.
Debbie-Anne A. Reese,
Deputy Secretary.

[FR Doc. 2024-00135 Filed 1-5-24; 8:45 am]

BILLING CODE 6717-01-P